SMALL BUSINESS ADMINISTRATION

[Disaster Declaration #10871 and #10872]

Maine Disaster Number ME-00008

AGENCY: U.S. Small Business Administration.

ACTION: Amendment 1.

SUMMARY: This is an amendment of the Presidential declaration of a major disaster for the State of Maine (FEMA-1693-DR ) , dated 05/09/2007.

Incident: Severe Storms and Inland and Coastal Flooding.

Incident Period: 04/15/2007 through 04/23/2007.

DATES: Effective Date: 05/24/2007.

Physical Loan Application Deadline Date: 07/09/2007.

EIDL Loan Application Deadline Date: 02/11/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Maine, dated 05/09/2007 is hereby amended to include the following areas as adversely affected by the disaster:

Primary Counties: Knox, Lincoln, Oxford, Sagadahoc.

Contiguous Counties:

Maine: Franklin, Kennebec, Waldo.

New Hampshire:

Coos.

All other information in the original declaration remains unchanged.

(Catalog of Federal Domestic Assistance Numbers 59002 and 59008)

Herbert L. Mitchell
Associate Administrator for Disaster Assistance.

[FR Doc. E7-10463 Filed 5-30-07; 8:45 am]

BILLING CODE 8025-01-P